DEPARTMENT OF HOMELAND SECURITY

Federal Emergency Management Agency

[Docket ID FEMA-2021-0002; Internal Agency Docket No. FEMA-B-2109]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Yavapai | City of Prescott (20-09-1903P). | The Honorable Greg Mengarelli, Mayor, City of Prescott, 201 South Cortez Street, Prescott, AZ 86303. | Public Works Department, 433 North Virginia Street, Prescott, AZ 86301. | https://msc.fema.gov/portal/advanceSearch. | May 13, 2021 | 040098
Arkansas: Pulaski | City of Little Rock (20-06-3649P). | The Honorable Frank D. Scott Jr., Mayor, City of Little Rock, 500 West Markham Street, Room 203, Little Rock, AR 72201. | Department of Public Works, 701 West Markham Street, Little Rock, AR 72201. | https://msc.fema.gov/portal/advanceSearch. | May 17, 2021 | 050181
Colorado:
Arapahoe | City of Littleton (21-08-0174P). | The Honorable Jerry Valdes, Mayor, City of Littleton, 2255 West Berry Avenue, Littleton, CO 80120. | Public Works Department, 2255 West Berry Avenue, Littleton, CO 80120. | https://msc.fema.gov/portal/advanceSearch. | May 7, 2021 | 080017
Chaffee | Unincorporated areas of Chaffee County (20-08-0467P). | The Honorable Greg Felt, Chairman, Chaffee County Board of Commissioners, P.O. Box 699, Salida, CO 81201. | Chaffee County Planning and Zoning Department, 104 Crestone Avenue, Room 125, Salida, CO 81201. | https://msc.fema.gov/portal/advanceSearch. | Apr. 28, 2021 | 080269
Denver | City and County of Denver (20-08-0532P). | The Honorable Michael Hancock, Mayor, City and County of Denver, 1437 North Bannock Street, Room 350, Denver, CO 80202. | Department of Transportation and Infrastructure, 201 West Colfax Avenue, Department 507, Denver, CO 80202. | https://msc.fema.gov/portal/advanceSearch. | May 7, 2021 | 080046
Douglas | Unincorporated areas of Douglas County (20-08-0491P). | The Honorable Roger A. Partridge, Chairman, Douglas County Board of Commissioners, 100 3rd Street, Castle Rock, CO 80104. | Douglas County Public Works Department, Engineering Division, 100 3rd Street, Castle Rock, CO 80104. | https://msc.fema.gov/portal/advanceSearch. | Apr. 23, 2021 | 080049
El Paso | City of Colorado Springs (20-08-0548P). | The Honorable John Suthers, Mayor, City of Colorado Springs, 30 South Nevada Avenue, Suite 601, Colorado Springs, CO 80903. | Pikes Peak Regional Development Center, 2880 International Circle, Colorado Springs, CO 80910. | https://msc.fema.gov/portal/advanceSearch. | Jun. 1, 2021 | 080060
El Paso | Unincorporated areas of El Paso County (20-08-0548P). | The Honorable Mark Waller, Chairman, El Paso County Board of Commissioners, 200 South Cascade Avenue, Suite 100, Colorado Springs, CO 80903. | Pikes Peak Regional Development Center, 2880 International Circle, Colorado Springs, CO 80910. | https://msc.fema.gov/portal/advanceSearch. | Jun. 1, 2021 | 080059
Connecticut: New London | Town of Waterford (20-01-1244P). | The Honorable Robert J. Brule, First Selectman, Town of Waterford Board of Selectmen, 15 Rope Ferry Road, Waterford, CT 06385. | Planning and Development Department, 15 Rope Ferry Road, Waterford, CT 06385. | https://msc.fema.gov/portal/advanceSearch. | May 7, 2021 | 090107
Florida: Polk | Unincorporated areas of Polk County (20-04-3375P). | The Honorable Bill Braswell, Chairman, Polk County Board of Commissioners, P.O. Box 9005, Bartow, FL 33831. | Polk County Land Development Division, 330 West Church Street, Bartow, FL 33830. | https://msc.fema.gov/portal/advanceSearch. | May 20, 2021 | 120261
Georgia: Bryan | Unincorporated areas of Bryan County (20-04-3250P). | The Honorable Carter Infinger, Chairman, Bryan County Board of Commissioners, P.O. Box 430, Pembroke, GA 31321. | Bryan County Department of Community Development, 6 Captain Matthew Freeman Drive, Suite 2016, Richmond Hill, GA 31324. | https://msc.fema.gov/portal/advanceSearch. | May 14, 2021 | 130016
Louisiana: Tangipahoa | Unincorporated areas of Tangipahoa Parish (20-06-1407P). | Mr. Robby Miller, Tangipahoa Parish President, P.O. Box 215, Amite, LA 70422. | Tangipahoa Parish Office of Community Development, 15485 West Club Deluxe Road, Hammond, LA 70403. | https://msc.fema.gov/portal/advanceSearch. | May 5, 2021 | 220206
North Carolina: Orange | Unincorporated areas of Orange County (19-04-6660P). | The Honorable Penny Rich, Chair, Orange County Board of Commissioners , P.O. Box 8181, Hillsborough, NC 27278. | Orange County Planning Department, 131 West Margaret Lane, Suite 201, Hillsborough, NC 27278. | https://msc.fema.gov/portal/advanceSearch. | Jan. 20, 2021 | 370342
Texas:
Bexar | City of San Antonio (20-06-1886P). | The Honorable Ron Nirenberg, Mayor, City of San Antonio, P.O. Box 839966, San Antonio, TX 78283. | Transportation and Capitol Improvements Department, Storm Water Division, 114 West Commerce Street, 7th Floor, San Antonio, TX 78205. | https://msc.fema.gov/portal/advanceSearch. | Apr. 12, 2021 | 480045
Tarrant | City of Fort Worth (20-06-2746P). | The Honorable Betsy Price, Mayor, City of Fort Worth, 200 Texas Street, Fort Worth, TX 76102. | Transportation and Public Works Department, Engineering Vault, 200 Texas Street, Fort Worth, TX 76102. | https://msc.fema.gov/portal/advanceSearch. | May 13, 2021 | 480596
Webb | Unincorporated areas of Webb County (20-06-2119P). | The Honorable Tano E. Tijerina, Webb County Judge, 1000 Houston Street, 3rd Floor, Laredo, TX 78040. | Webb County Planning Department, 1110 Washington Street, Suite 302, Laredo, TX 78040. | https://msc.fema.gov/portal/advanceSearch. | Apr. 19, 2021 | 481059
Virginia: Tazewell | Unincorporated areas of Tazewell County (20-03-1438P). | The Honorable Charles A. Stacy, Chairman, Tazewell County Board of Supervisors, P.O. Box 1025, Bluefield, VA 25605. | Tazewell County Engineering Department, 173 Main Street, Tazewell, VA 24651. | https://msc.fema.gov/portal/advanceSearch. | May 13, 2021 | 510160

[FR Doc. 2021-03764 Filed 2-23-21; 8:45 am]

BILLING CODE 9110-12-P